DEPARTMENT OF TRANSPORTATION

Federal Aviation Administration

14 CFR Parts 27 and 29

FAA Public Forum To Conduct Regulatory Review

AGENCY: Federal Aviation Administration (FAA), DOT.

ACTION: Notice of public meeting.

SUMMARY: The FAA announces an informal meeting to discuss the FAA rotorcraft rules, 14 CFR parts 27 and 29, and to gather any relevant information that will help with drafting any future rule changes.

DATES: The public meeting will be held on March 8, 2011, from 1 to 5 p.m. (ET).

ADDRESSES: The meeting is in conjunction with the Helicopter Association International (HAI) Heli-Expo at the Orange County Convention Center, Room S.310, South Concourse, 9899 International Drive, Orlando, Florida. Attendees are not required to register for the Heli-Expo conference to participate in this public forum.

FOR FURTHER INFORMATION CONTACT: Fred Stellar, Rotorcraft Standards Staff, ASW-110, 2601 Meacham Boulevard, Fort Worth, TX 76137; telephone (817) 222-5179; or by e-mail at fred.stellar@faa.gov.

SUPPLEMENTARY INFORMATION: The meeting is announced pursuant to 49 U.S.C. 40113 and 49 U.S.C. 44701 to take actions the FAA considers necessary in order to enhance safety in air commerce and the DOT policies and procedures to seek public participation in that process.

Purpose of the Public Meeting

The purpose of this informal meeting is to gather information that may drive regulatory changes. The FAA will review and consider all material presented by participants at the public meeting. FAA will use the information to analyze the need and scope for potential rule changes to enhance rotorcraft safety. The goal is to reduce the accident/incident rate for rotorcraft through promulgation of minimum safety standards in line with today's technology and helicopter operations. The FAA will have management and technical specialists available from the Aircraft Certification Service to entertain questions and discuss issues presented by the audience. Attendance is open to all interested persons, but will be limited to the space available.

Public Meeting Procedures

At this meeting, we will outline our approach to conduct a comprehensive review of 14 CFR parts 27 and 29 rules for rotorcraft airworthiness. We will give a brief presentation discussing the primary safety concerns driving potential revision of rotorcraft rules. Following the brief presentation, the audience will be encouraged to comment or make suggestions regarding potential changes to the regulations governing rotorcraft airworthiness. An FAA representative will facilitate the meeting per the following procedures:

(1) The meeting will be informal and non-adversarial. No individual will be subject to cross examination by any other participant. FAA representatives on the panel may ask questions to clarify statements and to ensure an accurate record. Any statement made during the meeting by a panel member should not be construed as an official position of the government.

(2) There will be no admission fees or other charges to attend or to participate in the public meeting. The meeting will be open to all persons, subject to availability of space in the meeting room. The FAA will make every effort to accommodate all persons wishing to attend.

(3) Speakers may be limited to 5-10 minute statements.

(4) The meeting will be recorded by a court reporter.

Issued in Fort Worth, Texas on January 27, 2011.
Kimberly K. Smith,
Manager, Rotorcraft Directorate, Aircraft Certification Service.

[FR Doc. 2011-2317 Filed 2-2-11; 8:45 am]

BILLING CODE 4910-13-P